ENVIRONMENTAL PROTECTION AGENCY

[FRL-6889-4]

Regulatory Reinvention (XL) Pilot Projects

AGENCY: Environmental Protection Agency (EPA).

ACTION: Notice of Availability of Final Project Agreements and related documents for twenty-two XL Projects: United States Postal Service (USPS)—Denver; Mayport Naval Station—Environmental Reinvestment (ENVVEST); Steele County, MN XL Communities (XLC); Georgia-Pacific Black Liquor Gasification System; International Paper (IP) Androscoggin Mill—Effluent Improvements; Progressive Insurance Company—Pay As You Drive Auto Insurance; International Business Machines (IBM)—Essex Junction, Vermont; Labs 21—Environmental Performance at Laboratories; Project XLC Phase I (Planning): Clermont County, OH; Kodak Company Pollution Prevention; PPG Industries, Inc.; Yolo County Accelerated Anaerobic & Aerobic Composting (Bioreactor); Buncombe County Leachate Recirculation/Gas Recovery (Bioreactor) Landfill; Autoliv Automobile Safety Products, U.S.A.; Ortho-McNeil Pharmaceutical—Laboratory-Scale High-Temperature Catalytic Oxidation Process to Treat Low-Level Mixed Wastes; State of Pennsylvania Department of Environmental Protection (PADEP) Coal Remining and Reclamation; National Aeronautics and Space Administration (NASA) White Sands Test Facility (WSTF); Narragansett Bay Commission (NBC) Pretreatment; Puget Sound Naval Shipyard (PSNS) Phase I—ENVVEST; USA Waste of Virginia, Inc., and King George Landfills, Inc., wholly-owned subsidiaries of Waste Management, Inc., Bioreactor Systems; International Business Machines (IBM) East Fishkill Facility—F006 Sludge Recycling; and Lead-Safe Boston.

SUMMARY: EPA is announcing the signing of the Project XL Final Project Agreements (FPAs) for the following XL, XLC, and ENVVEST Projects: United States Postal Service (USPS)—Denver (hereafter “USPS”); Mayport Naval Station—ENVVEST (hereafter “Mayport”); Steele County, MN XL Communities (XLC) (hereafter “Steele County”); Georgia-Pacific Black Liquor Gasification System (hereafter “Georgia-Pacific”); International Paper (IP) Androscoggin Mill—Effluent Improvements (hereafter “IP—Effluent Improvements”); Progressive Insurance Company—Pay As You Drive Auto Insurance (hereafter “Progressive Insurance”); International Business Machines (IBM)—Essex Junction, Vermont (hereafter “IBM—Vermont”); Labs 21—Environmental Performance at Laboratories (hereafter “Labs 21”); Project XLC Phase I (Planning): Clermont County, OH (hereafter “Clermont”); Kodak Company Pollution Prevention (hereafter “Kodak”); PPG Industries, Inc. (hereafter “PPG”); Yolo County Accelerated Anaerobic & Aerobic Composting (Bioreactor) (hereafter “Yolo County”); Buncombe County Leachate Recirculation/Gas Recovery (Bioreactor) (hereafter “Buncombe County”); Autoliv Automobile Safety Products, U.S.A. (hereafter “Autoliv”); Ortho-McNeil Pharmaceutical—Laboratory-Scale High-Temperature Catalytic Oxidation Process to Treat Low-Level Mixed Wastes (hereafter “Ortho-McNeil”); State of Pennsylvania Department of Environmental Protection (PADEP) Coal Remining and Reclamation (hereafter “Pennsylvania Coal”); National Aeronautics and Space Administration (NASA) White Sands Test Facility (WSTF) (hereafter “NASA WSTF”); Narragansett Bay Commission (NBC) Pretreatment (hereafter “NBC”); Puget Sound Naval Shipyard (PSNS) Phase I—ENVVEST (hereafter “PSNS”); USA Waste of Virginia, Inc., and King George Landfills, Inc., wholly-owned subsidiaries of Waste Management, Inc., Bioreactor Systems (hereafter “Virginia Landfills”); International Business Machines (IBM) East Fishkill Facility—F006 Sludge Recycling (hereafter “IBM Fishkill”); and Lead-Safe Boston.

DATES: The FPAs were signed on the following dates: USPS on May 22, 2000; Mayport on May 30, 2000; Steele County on May 31, 2000; Georgia-Pacific on May 31, 2000; IP—Effluent Improvements on June 29, 2000; Progressive Insurance on July 27, 2000; IBM—Vermont on July 31, 2000; Labs 21 on September 7, 2000; Clermont on September 6, 2000; Kodak on September 14, 2000; PPG on September 14, 2000; Yolo County on September 14, 2000; Buncombe County on September 18, 2000; Autoliv on September 20, 2000; Ortho-McNeil on September 22, 2000; Pennsylvania Coal on September 22, 2000; NASA WSTF on September 22, 2000; NBC on September 25, 2000; PSNS on September 25, 2000; Virginia Landfills on September 29, 2000; IBM Fishkill on September 29, 2000; and Lead-Safe Boston on October 2, 2000.

ADDRESSES: To obtain copies or to make inquiries about the Final Project Agreements, Fact Sheets, or public comments received contact the following individuals: Mary Byrne, 303-312-6491, U.S. EPA Region VIII, 8P-R, 999 18th Street, Suite 500, Denver, Colorado 80202-2466 (byrne.mary@epa.gov) for the USPS XL Project; Michelle Cook, 404-562-8674, U.S. EPA Region IV, 61 Forsyth Street, SW., Atlanta, Georgia 30303-3104 (cook.michelle@epa.gov) for the Mayport ENVVEST Project; Abeer Hashem, 312-886-1331, U.S. EPA Region V, WC-15J, 77 West Jackson Blvd, Chicago, Illinois 60604-3507 (hashem.abeer@epa.gov) for the Steele County XLC Project; Steven J. Donohue, 215-814-3215, U.S. EPA Region III, 3OR00, 1650 Arch Street, Philadelphia, Pennsylvania 19103-2029 (donohue.steven@epa.gov) for the Georgia-Pacific XL Project; Chris Rascher, 617-918-1834, U.S. EPA Region I, SPP, 1 Congress Street, Suite 1100, Boston, Massachusetts 02114-2023 (rascher.chris@epa.gov) for the IP—Effluent Improvements XL Project; Janet Murray, 202-260-7570, U.S. EPA, 1802, 1200 Pennsylvania Avenue, NW., Washington, DC 20460 (murray.janet@epa.gov) for the Progressive Insurance XL Project; John Moskal, 617-918-1826, U.S. EPA Region I, SPP, 1 Congress Street, Suite 1100, Boston, Massachusetts 02114-2023 (moskal.john@epa.gov) for the IBM—Vermont XL Project; Nina Bonnelycke, 202-260-3344, U.S. EPA, 1802, 1200 Pennsylvania Avenue, NW., Washington, DC 20460 (bonnelycke.nina@epa.gov) for the Labs 21 XL Project; Christopher Murphy, 312-886-0172, U.S. EPA Region V, WA-16J, 77 West Jackson Blvd, Chicago, Illinois 60604-3507 (murphy.christopher@epa.gov) for the Clermont XLC Project; Bill Waugh, 202-260-3489, U.S. EPA, 7403, 1200 Pennsylvania Avenue, NW., Washington, DC 20460 (waugh.bill@epa.gov) for the Kodak XL Project; Bill Waugh, 202-260-3489, U.S. EPA, 7403, 1200 Pennsylvania Avenue, NW., Washington, DC 20460 (waugh.bill@epa.gov) for the PPG XL Project; Mark Samolis, 415-744-2331, U.S. EPA Region IX, SPE-1, 75 Hawthorne Street, San Francisco, CA 94105 (samolis.mark@epa.gov) for the Yolo County XL Project; Michelle Cook, 404-562-8674, U.S. EPA Region IV, 61 Forsyth Street, SW., Atlanta, Georgia 30303-3104 (cook.michelle@epa.gov) for the Buncombe County XL Project; Mary Byrne, 303-312-6491, U.S. EPA Region VIII, 8P-R, 999 18th Street, Suite 500, Denver, Colorado 80202-2466 (byrne.mary@epa.gov) for the Autoliv XL Project; Charles Howland, 215-814-2645, U.S. EPA Region III, 30R00, 1650 Arch Street, Philadelphia, Pennsylvania 19103-2029 (howland.charles@epa.gov) for the Ortho-McNeil XL Project; Steven J. Donohue, 215-814-3215, U.S. EPA Region III, 3OR00, 1650 Arch Street, Philadelphia, Pennsylvania 19103-2029 (donohue.steven@epa.gov) for the Pennsylvania Coal XL Project; Adele Cardenas, 214-665-7210, U.S. EPA Region VI, 6EN-XP, 1445 Ross Avenue, Suite 1200, Dallas, TX 75202-2733 (cardenas.adele@epa.gov) for the NASA WSTF XL Project; Chris Rascher, 617-918-1834, U.S. EPA Region I, SPP, 1 Congress Street, Suite 1100, Boston, Massachusetts 02114-2023 (rascher.chris@epa.gov) for the NBC XL Project; William Glasser, 206-553-7215, U.S. EPA Region X, 1200 Sixth Avenue, Seattle, Washington 98101 (glasser.william@epa.gov) for the PSNS ENVVEST Project; Chris Menen, 215-814-2786, U.S. EPA Region III, 3EI00, 1650 Arch Street, Philadelphia, Pennsylvania 19103-2029 (menen.chris@epa.gov) for the Virginia Landfills XL Project; Sam Kerns, 212-637-4139, U.S. EPA Region II, 290 Broadway, New York, New York 10007-1866 (kerns.sam@epa.gov) for the IBM—Fishkill XL Project; and Mike Hill, 617-918-1398, U.S. EPA Region I, CHW, 1 Congress Street, Suite 1100, Boston, Massachusetts 02114-2023 (hill.michael@epa.gov) for the Lead-Safe Boston XL Project. In addition public files on each of the projects are located at each of the EPA Regional or Headquarters offices listed. Additional information on Project XL, XLC, and ENVVEST, including documents referenced in this document, other EPA policy documents related to Project XL, Regional and Headquarters contacts, application information and descriptions of existing XL projects and proposals are available via the Internet at “http://www.epa.gov/ProjectXL”.

SUPPLEMENTARY INFORMATION: Final Project Agreements are voluntary agreements developed by project sponsors, stakeholders, the State in which the project is located and EPA. Project XL including XL projects for government agencies regulated by EPA—ENVVEST and XL for Communities, announced in the Federal Register on May 23, 1995 (60 FR 27282) and November 1, 1995 (60 FR 55569) respectively give regulated sources the opportunity to develop alternative strategies that will replace or modify specific regulatory requirements on the condition that they produce greater environmental benefits. Any legal implementing mechanism intended to be used in a project is described in the project's FPA.

EPA announced the availability and requested comments on FPA's in the Federal Register for the following XL, ENVVEST and XL Communities projects on: February 15, 2000 (65 FR 7547) USPS; May 1, 2000 (65 FR 25327) Mayport; December 29, 1999 (64 FR 73047) Steele County; May 8, 2000 (65 FR 26606) Georgia-Pacific; May 16, 2000 (65 FR 31120)IP—Effluent Improvements; June 27, 2000 (65 FR 39614) Progressive Insurance; June 16, 2000 (65 FR 37780) IBM—Vermont; August 17, 2000 (65 FR 50200) Labs 21; August 16, 2000 (65 FR 49983) Clermont; August 14, 2000 (65 FR 49571) Kodak; August 22, 2000 (65 FR 50987) PPG; August 29, 2000 (65 FR 52426) Yolo County; July 28, 2000 (65 FR 46456) Buncombe County; August 14, 2000 (65 FR 49571) Autoliv; September 1, 2000 (65 FR 53297) Ortho-McNeil; August 30, 2000 (65 FR 52751) Pennsylvania Coal; September 8, 2000 (65 FR 54519) NASA WSTF; August 29, 2000 (65 FR 52425) NBC; August 31, 2000 (65 FR 53008) PSNS; September 8, 2000 (65 FR 54520) Virginia Landfills; September 1, 2000 (65 FR 53298) IBM Fishkill; and September 7, 2000 (65 FR 54265) Lead-Safe Boston. Descriptions of the projects are contained in each of the Federal Register notices. EPA did not receive adverse comment on any of these FPAs.

Dated: October 17, 2000.
George Wyeth,
Acting Director, Office of Environmental Policy Innovation.

[FR Doc. 00-27153 Filed 10-20-00; 8:45 am]

BILLING CODE 6560-50-P